FEDERAL ELECTION COMMISSION

Sunshine Act Meetings

AGENCY: Federal Election Commission

DATE AND TIME: Wednesday, January 25, 2017 at 11:00 a.m.

PLACE: 999 E Street NW., Washington, DC (Ninth Floor).

STATUS: This meeting will be open to the public.

ITEMS TO BE DISCUSSED:

Correction and Approval of Minutes for December 1, 2016

Draft Advisory Opinion 2016-26: Green Party of Florida

Draft Advisory Opinion 2016-25: Mike Pence for Indiana

Management and Administrative Matters

Individuals who plan to attend and require special assistance, such as sign language interpretation or other reasonable accommodations, should contact Dayna C. Brown, Acting Secretary and Clerk, at (202) 694-1040, at least 72 hours prior to the meeting date.

PERSON TO CONTACT FOR INFORMATION: Judith Ingram, Press Officer, Telephone: (202) 694-1220.

Dayna C. Brown,
Acting Secretary and Clerk of the Commission.

[FR Doc. 2017-01576 Filed 1-18-17; 4:15 pm]

BILLING CODE 6715-01-P